DEPARTMENT OF AGRICULTURE

Submission for OMB Review; Comment Request; Reinstatement

The Department of Agriculture has submitted the following information collection requirement(s) to OMB for review and reinstatement under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by August 11, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Timber Sale Contract Operations and Administration.

OMB Control Number: 0596-0225.

Summary of Collection: The Forest Service (FS) is authorized under the National Forest Management Act (16 U.S.C. 472a); Contract Disputes Act of 1978; Food, Conservation, and Energy Act of 2008; Executive Order 11246, as amended by E.O. 11375 and E.O. 12086; 36 CFR 223.30-60 and 36 CFR 223.110-118; 40 CFR 112 and Forest Resources Conservation and Shortage Relief Act of 1990, § 620d Monitoring and Enforcement, as amended in 1997 by Public Law 105-83 and current through Public Law 110-450 and Agricultural Act of 2014, Title VIII Forestry, to collect information associated with operations and administration of bilateral contracts for the sale of timber and other forest products. Forest Service contracts for the sale of timber and other forest products are bilateral contracts in which both contracting parties are bound to fulfill obligations reciprocally. By their nature bilateral contracts require both parties to routinely share information and enter into agreements pertaining to operations and performance. Some information collected under Forest Service contracts is required by laws, regulations and/or timber sale policies. Each contract specifies the information the contractor will be required to provide, including the timing and frequency of the information collection.

Need and Use of the Information: Information collected pursuant to contract administration is required by laws, regulations, and Forest Service timber sale policies. Each contract specifies the information the contractor will be required to provide, including the timing and frequency of the information collection. Additionally, these contracts are subject to the Contract Disputes Act of 1976. Written documentation of plans, inspections, requests for action by the other party, agreements, modifications, acceptances of work, and virtually everything else pertaining to performance is collected and is essential to resolving disputes. The information collection in this request is necessary to implement the above statutes, regulations, and policies designed to administer contracts for the sale and disposal of National Forest System timber and other forest products.

Description of Respondents: Business or other for-profit; Farms; Not-for-profit institutions.

Number of Respondents: 4,109.

Frequency of Responses: Reporting: Annually; Semi-annually; Monthly; On occasion.

Total Burden Hours: 26,722.

Levi S. Harrell,
Departmental Information Collection Clearance Officer.

[FR Doc. 2025-12995 Filed 7-10-25; 8:45 am]

BILLING CODE 3411-15-P